DEPARTMENT OF VETERANS AFFAIRS

[OMB Control No. 2900-0784]

Agency Information Collection Activity Under OMB Review: Application for Pre-Need Determination of Eligibility for Burial

AGENCY: National Cemetery Administration, Department of Veterans Affairs.

ACTION: Notice.

SUMMARY: In compliance with the Paperwork Reduction Act (PRA) of 1995, this notice announces that the National Cemetery Administration (NCA), Department of Veterans Affairs, will submit the collection of information abstracted below to the Office of Management and Budget (OMB) for review and comment. The PRA submission describes the nature of the information collection and its expected cost and burden and it includes the actual data collection instrument.

DATES: Comments must be submitted on or before November 18, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0784” in any correspondence.

FOR FURTHER INFORMATION CONTACT: Cynthia Harvey-Pryor at (202) 461-5870 or FAX (202) 501-2240.

SUPPLEMENTARY INFORMATION:

Authority: Public Law 104-13; 44 U.S.C. 3501-21.

Title: Application for Pre-Need Determination of Eligibility for Burial, VA Form 40-10007.

OMB Control Number: 2900-0784.

Type of Review: Revision of an approved collection.

Abstract: VA Form 40-10007 is used to collect information from Veterans and service members who wish to determine their eligibility for burial in a VA national cemetery prior to their time of need for planning purposes. The data will be used for this purpose.

An agency may not conduct or sponsor, and a person is not required to respond to a collection of information unless it displays a currently valid OMB control number. The Federal Register Notice with a 60-day comment period soliciting comments on this collection of information was published at Vol. 84, No. 155, Monday, August 12, 2019, pages 39893 and 39894.

Affected Public: Individuals or Households.

Estimated Number of Respondents: 47,400.

Estimated Average Burden per Respondent: 20 minutes.

Frequency of Response: One time.

Estimated Annual Burden: 15,800 hours.

By direction of the Secretary.
Danny S. Green,
Interim Department Clearance Officer, Office of Quality, Privacy and Risk, Department of Veterans Affairs.

[FR Doc. 2019-22687 Filed 10-16-19; 8:45 am]

BILLING CODE 8320-01-P